DEPARTMENT OF ENERGY

Federal Energy Regulatory Commission

[Docket No. ER01-2536-000]

New York Independent System Operator, Inc.; Notice of Filing

July 13, 2001.

Take notice that the New York Independent System Operator, Inc. (NYISO) on July 6, 2001 tendered for filing proposed revisions to Sections 5.9-5.16 of its Market Administration and Control Area Services Tariff. The NYISO requests an effective date of 60 days after this filing (September 4, 2001). Take further notice that the NYISO has requested on behalf of the Market Participants that the Commission determine the appropriate translation from Installed Capacity to Unforced Capacity of the $105 cap applicable to In-City generators subject to market power mitigation measures previously adopted by the Commission.

Copies of this filing were served upon all persons who have executed Service Agreements under the ISO Market Services Tariff and all parties included on the service list for Docket No. ER98-3169-000.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests regarding translation of the $105 cap should be filed on or before July 20, 2001. All such motions and protests regarding proposed revisions to Sections 5.9-5.16 should be filed on or before July 27, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-18027 Filed 7-18-01; 8:45 am]

BILLING CODE 6717-01-P